DEPARTMENT OF THE INTERIOR

Bureau of Land Management

[CA-067-1990; CA-40204]

Correction to Notice of Availability of the Draft Environmental Impact Report/Environmental Impact Statement on the Proposed Expansion of the Existing Mesquite Gold Mine

AGENCY: Bureau of Land Management.

ACTION: Notice corrections.

SUMMARY: The Bureau of Land Management published a notice in the Federal Register on August 29, 2000, regarding the availability of the Draft Environmental Impact Report/Environmental Impact Statement on the proposed expansion of the existing Mesquite Gold Mine in Imperial County, Ca. The notice contains information that has changed.

FOR FURTHER INFORMATION CONTACT: Kevin Marty, Bureau of Land Management, 1661 South 4th Street, El Centro, CA; telephone (760) 337-4422.

Corrections

(a) In the Federal Register of August 29, 2000, in DOCID fr29au00-85, on page 52436, under the DATES caption, change the comment period ending date to November 7, 2000.

(b) On the same page as above, under the ADDRESSES caption, change the extension for the Imperial County Planning and Building Department to 4313.

(c) On the same page as above, under the FOR FURTHER INFORMATION CONTACT caption, change the Imperial County Planning and Building Department contact name to Richard Cabanilla, and change the telephone extension to 4313.

Dated: September 15, 2000.
Greg Thomsen,
Field Manager.

[FR Doc. 00-24371 Filed 9-21-00; 8:45 am]

BILLING CODE 4310-40-P